DEPARTMENT OF HEALTH AND HUMAN SERVICES

Meeting of the Advisory Committee on Blood Safety and Availability

AGENCY: Department of Health and Human Services, Office of the Secretary.

ACTION: Notice.

SUMMARY: As stipulated by the Federal Advisory Committee Act, the Department of Health and Human Services (DHHS) is hereby giving notice that the Advisory Committee on Blood Safety and Availability (ACBSA) will hold a meeting. This meeting is open to the public.

DATES: The meeting will be held on Monday, May 16, 2005 and Tuesday, May 17, 2005 from 9 a.m. to 5 p.m.

ADDRESSES: The meeting will be held at the Bethesda North Marriott Hotel and Conference Center, 5701 Marinelli Road, North Bethesda, Maryland 20852.

FOR FURTHER INFORMATION CONTACT: Jerry A. Holmberg, Ph.D., Executive Secretary, Advisory Committee on Blood Safety and Availability, Office of Public Health and Science, Department of Health and Human Services, 1101 Wootton Parkway, Suite 250, Rockville, MD 20852, (301) 443-2331, fax (301) 443-4788, e-mail jholmberg@osophs.dhhs.gov.

SUPPLEMENTARY INFORMATION: DHHS is responsible for carrying out research in health fields including diseases involving blood and blood products, and for issuing and enforcing regulations concerning the collection, preparation, and distribution of blood and blood products, and regulations related to the transmission of communicable diseases. The ACBSA advises, assists, consults with, and makes policy recommendations to the Secretary and the Assistant Secretary for Health regarding these broad responsibilities.

The Advisory Committee on Blood Safety and Availability will meet to review progress and solicit additional comments from the Committee regarding numerous recommendations made over the past year. Specifically, the Committee will hear updates and discuss previous recommendations on potential studies to standardize, validate, and determine the predictive value of bacterial testing with the intent to extend the dating of platelet products from five to seven days and the possible pre-storage pooling of whole blood derived platelets. In addition, the Committee will be asked to discuss/comment on strategies for addressing infectious agents (known or emerging) that potentially could affect the blood supply.

Public attendance at the meeting is limited to space available. Individuals who plan to attend and need special assistance, such as sign language interpretation or other reasonable accommodations, should notify the designated contact person.

Members of the public will have the opportunity to provide comments at the meeting. Public comments will be limited to five minutes per speaker. Anyone planning to comment is encouraged to contact the Executive Secretary at his/her earliest convenience. Individuals who wish to have material distributed to the Committee for review and discussion are asked to provide at a minimum 30 copies for this purpose. If the requested amount of copies cannot be provided, a copy of the document should be provided to the Executive Secretary for duplication purposes no later than May 11, 2005.

Dated: April 26, 2005.
Jerry A. Holmberg,
Executive Secretary, Advisory Committee on Blood Safety and Availability.

[FR Doc. 05-8669 Filed 4-29-05; 8:45 am]

BILLING CODE 4150-41-P